ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, March 11-13, 2013 at the times and location listed below.

DATES: The schedule of events is as follows:

Monday, March 11, 2013

10:30-3:30 p.m.—Ad Hoc Rulemaking Committees: Closed to Public

3:30-4:00—Ad Hoc Committee on Accessible Design in Education

Tuesday, March 12, 2013

9:30 a.m.-11:00—Ad Hoc Committee on Frontier Issues

11:00-Noon—Presentation on Accessibility of Mobile Devices

1:30-2:00 p.m.—Budget Committee

2:00-2:45—Planning and Evaluation Committee

3:00-4:00—Technical Programs Committee

Wednesday, March 13, 2013

9:30 a.m.-10:30—Ad Hoc Committee on Transportation Vehicles: Closed to Public

10:30-Noon—Presentation on Accessible Transportation Research

1:30-3:00 p.m.—Board Meeting

ADDRESSES: Meetings will be held at the Access Board Conference Room, 1331 F Street NW., suite 800, Washington, DC 20004.

FOR FURTHER INFORMATION CONTACT: For further information regarding the meetings, please contact David Capozzi, Executive Director, (202) 272-0010 (voice); (202) 272-0054 (TTY).

SUPPLEMENTARY INFORMATION: At the Board meeting scheduled on the afternoon of Wednesday, March 13, the Access Board will consider the following agenda items:

• Administer Oath of Office to new appointee

• Approval of the draft January 9, 2013 meeting minutes (vote)

• Budget Committee Report

• Technical Programs Committee Report

• Planning and Evaluation Committee Report

• Ad Hoc Committee Reports: Emergency Transportable Housing and Information and Communications Technology (votes)

• Election Assistance Commission Report

• Prescription Drug Labeling Working Group Report

• ADA and ABA Guidelines; Federal Agency Update

• Election of Officers (votes)

• Executive Director's Report

• Public Comment, Open Topics

All meetings are accessible to persons with disabilities. An assistive listening system, computer assisted real-time transcription (CART), and sign language interpreters will be available at the Board meeting and committee meetings. Persons attending Board meetings are requested to refrain from using perfume, cologne, and other fragrances for the comfort of other participants (see www.access-board.gov/about/policies/fragrance.htm for more information).

David M. Capozzi,
Executive Director.

[FR Doc. 2013-04260 Filed 2-22-13; 8:45 am]

BILLING CODE 8150-01-P